DEPARTMENT OF ENERGY

Energy Information Administration

Agency Information Collection Activities: Proposed Collection; Comment Request

AGENCY: Energy Information Administration (EIA), Department of Energy (DOE).

ACTION: Agency information collection activities: Proposed collection; comment request.

SUMMARY: The EIA is soliciting comments on the proposed changes and extension for three-years to the Forms EIA-851, “Domestic Uranium Production Report,” and EIA-858, “Uranium Industry Annual Survey.”

DATES: Comments must be filed by June 9, 2003. If you anticipate difficulty in submitting comments within that period, contact the person listed below as soon as possible.

ADDRESSES: Send comments to Douglas Bonnar. To ensure receipt of the comments by the due date, submission by FAX (202-287-1946) or e-mail (douglas.bonnar@eia.doe.gov) is recommended. The mailing address is Office of Coal, Nuclear, Electric and Alternate Fuels, EI-52/L'Enfant Plaza Building, U.S. Department of Energy, 1000 Independence Avenue SW., Washington, DC 20585-1615.

FOR FURTHER INFORMATION CONTACT: Requests for additional information or copies of any forms and instructions should be directed to Douglas Bonnar at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The EIA-851 is a quarterly survey that collects monthly data on uranium production at conventional mills and nonconventional plants (byproduct recovery and in-situ leach plants). Published data appear in the EIA report, “Domestic Uranium Production Report.” The report is available at http://www.eia.doe.gov/cneaf/nuclear/page/at_a_glance/qtr_upd/qupd.html

The Form EIA-858 is an annual survey that collects data on uranium raw materials activities (Schedule A) and uranium marketing activities (Schedule B). Data collected on these forms provide a comprehensive statistical characterization of the domestic uranium industry. Published data from these surveys are used by Congress, Federal and State agencies, the uranium and nuclear-electric industries, and the general public. Published data appear in the EIA reports, “Uranium Industry Annual,” and the “Annual Energy Review.”

II. Current Actions

EIA will be requesting a three-year extension of approval to its uranium surveys with the following survey changes.

• Propose putting the EIA-858 Schedule A: Uranium Raw Material Activities survey on standby due to the small size of the U.S. uranium producer industry. The Schedule A survey is mainly a property-by-property form for about 30 U.S. companies that own/lease uranium reserves and mines, which almost all are not expected to be mined. The burden for each company to complete the Schedule A is approximately 10 hours annually and since EIA is developing new internet data collection systems for its surveys, it is difficult to justify the expense for the Schedule A with currently few active producers.

• Propose collecting annually the following data from potentially 8 U.S. uranium producers: Facility information, processing information, mine and/or other production and related information, drilling, expenditures, and employment using an EIA-851 (Annual) “Domestic Uranium Production Report” survey along with its current quarterly survey collection of monthly production using the EIA-851 (Quarterly) “Domestic Uranium Production Report.” The annual burden would be about 2 hours and the quarterly burden would remain 0.75 hours and each would be a 1-page form. Respondents would use EIA's secure file transfer system for these data collections.

• Propose renaming the EIA-858 survey from “Uranium Industry Annual Survey” to “Uranium Marketing Annual Survey” with the following changes from the EIA-858 Schedule B, Uranium Marketing Activities survey:

—Delete Items 1.D.2 (Custody Transactions) and 1.D.3 (Matched Sales Transactions)

—Delete Items 1.F.4 (Imported From) and 1.F.5 (Exported To)

—In Item 1.F (Future Deliveries), report quantities (Min/Max) only

—Add enrichment price data ($ / SWU) to Item 2, (Enrichment Services Purchased)

—In Item 3 inventories, report only by material types (U3O8, Natural UF6, Enriched UF6, and fabricated fuel not inserted into a reactor)

—Delete Item 4 (Uranium Inventory Policy)

—Delete Item 6.E (U3O8 Equivalent of secondary SWU received in exchange)

The annual burden would be about 14 hours (originally 24 hours for both Schedules A and B) and respondents would use an internet data collection system for this EIA-858 “Uranium Marketing Annual Survey.”

III. Request for Comments

Prospective respondents and other interested parties should comment on the actions discussed in item II. The following guidelines are provided to assist in the preparation of comments. (If the notice covers more than one form, add “Please indicate to which form(s) your comments apply.”)

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to average 14 hours per response for the EIA-858, 0.75 hours per response for the EIA-851 (Quarterly), and 2 hours per response for the EIA-851 (Annual). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information to be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, on April 2, 2003.
Jay H. Casselberry,
Agency Clearance Officer, Statistics and Methods Group, Energy Information Administration.

[FR Doc. 03-8515 Filed 4-7-03; 8:45 am]

BILLING CODE 6450-01-P